DEPARTMENT OF AGRICULTURE

Office of Advocacy and Outreach

Advisory Committee on Beginning Farmers and Ranchers; Notice of Public Meeting

AGENCY: Office of Advocacy and Outreach, USDA.

ACTION: Notice of Public Meeting.

SUMMARY: Pursuant to the Federal Advisory Committee Act (FACA, 5 U.S.C. App.), notice is hereby given of a meeting via teleconference on April 17, 2015. A listen-only conference call line will be available from 3:00 p.m. through 4:00 p.m. EST for all who wish to listen in on the proceeding through the following telephone number: 800-369-1617 and enter passcode 5274714.

FOR FURTHER INFORMATION CONTACT: Mrs. Kenya Nicholas, Designated Federal Official, USDA OAO, 1400 Independence Avenue, Room 520-A, Washington, DC 20250-0170; Telephone (202) 720-6350; Fax (202) 720-7704; Email: kenya.nicholas@osec.usda.gov.

ADDRESSES: Mrs. Kenya Nicholas, Designated Federal Official, USDA OAO, 1400 Independence Avenue, Room 520-A, Washington, DC 20250-0170. Comments may also be faxed to (202) 720-7704.

SUPPLEMENTARY INFORMATION: Pursuant to FACA, 5 U.S.C. App., notice is hereby given that the Advisory Committee on Beginning Farmers and Ranchers will meet at 3:00 p.m. EST on Friday, April 17, 2015.

The Committee advises the Secretary of Agriculture on matters broadly affecting new farmers and ranchers including strategies, policies, and programs that will enhance opportunities and create new farming and ranching operations. During this meeting, the Committee will consider Department goals and objectives necessary to deliberate upon their newly developed set of recommendations for consideration by the Secretary. There will be an executive session which will be closed to the public during the last portion of the meeting to discuss administrative matters.

Signed in Washington, DC, this 26th day of March 2015.
Carolyn C. Parker,
Director, Office of Advocacy and Outreach.

Advisory Committee on Beginning Farmers and Ranchers

Friday, April 17, 2015, 3:00 p.m.-4:00 p.m. EST.

(Public) Listen-Only Call-In Number 1-800-369-1617 and enter passcode 5274714#.

Agenda

Call to Order & Committee Members Roll Call —3:00 p.m.

• Kenya Nicholas, Designated Federal Officer (Welcome)

Deliberations on Draft Set of Recommendations—3:05 p.m.

• Gary Matteson, Chair and Peter Scheffert, Vice Chair

• Advisory Committee Members

Executive Session—Administrative (Closed to the Public) —3:50 p.m.

• Advisory Committee Members

Meeting Adjourned—4:00 p.m.

• Kenya Nicholas, Designated Federal Officer

[FR Doc. 2015-07418 Filed 4-1-15; 8:45 am]

BILLING CODE CODE P